DEPARTMENT OF THE TREASURY

Office of Thrift Supervision

[AC-1: OTS Nos. H-3825 and 00560]

Mt. Troy Savings Bank, FSB, Pittsburgh, Pennsylvania; Approval of Conversion Application

Notice is hereby given that on, February 12, 2002, the Director, Examination Policy, Office of Thrift Supervision (“OTS”), or her designee, acting pursuant to delegated authority, approved the application of Mt. Troy Savings Bank, FSB, Pittsburgh, Pennsylvania, to convert to the stock form of organization. Copies of the application are available for inspection by appointment (phone number: 202-906-5922 or e-mail: Public.Info@OTS.Treas.gov) at the Public Reading Room, OTS, 1700 G Street, NW., Washington, DC 20552, and the OTS Northeast Regional Office, 10 Exchange Place, 18th Floor, Jersey City, New Jersey 07302.

Dated: February 13, 2002.
By the Office of Thrift Supervision.
Nadine Y. Washington,
Corporate Secretary.

[FR Doc. 02-4017 Filed 2-19-02; 8:45 am]

BILLING CODE 6720-01-M